ENVIRONMENTAL PROTECTION AGENCY

[FRL-8251-4]

Proposed CERCLA Administrative Cost Recovery Settlement; The Marsh Valve Superfund Site, Dunkirk, NY

AGENCY: Environmental Protection Agency.

ACTION: Notice; request for public comment.

SUMMARY: In accordance with Section 122(i) of the Comprehensive Environmental Response, Compensation, and Liability Act as amended (“CERCLA”), 42 U.S.C. 9622(i), notice is hereby given of a proposed administrative settlement under Section 122(h) of CERCLA, 42 U.S.C. 9622(h), for recovery of past response costs concerning the Marsh Valve Superfund Site located in Dunkirk, New York with the Settling Party, Electrolux Home Products, Inc., and its predecessors in interest, White Consolidated Industries, Inc., and Sarco Company, Inc. The settlement requires the Settling Party to pay $2,540,000, plus an additional sum for interest on that amount calculated from July 5, 2005 through the date of payment to the EPA Hazardous Substance Superfund in reimbursement of EPA's past response costs incurred with respect to the Site. The settlement includes a covenant not to sue the Settling Party pursuant to Section 107(a) of CERCLA, 42 U.S.C. 9607(a) for Past Response Costs, as defined in the agreement. For thirty (30) days following the date of publication of this notice, the Agency will receive written comments relating to the settlement. The Agency will consider all comments received and may modify or withdraw its consent to the settlement if comments received disclose facts or considerations which indicate that the settlement is inappropriate, improper, or inadequate.

DATES: Comments must be submitted on or before January 5, 2007.

ADDRESSES: The proposed settlement is available for public inspection at USEPA, 290 Broadway, 17th Floor, New York, New York 10007-1866. Comments should reference the Marsh Valve Superfund Site, CERCLA Docket No. 02-2006-2014 and be sent to the individual identified below. To request a copy of the proposed settlement agreement, please contact the individual identified below.

FOR FURTHER INFORMATION CONTACT: Carol Y. Berns, Assistant Regional Counsel, USEPA, 290 Broadway, 17th Floor, New York, New York 10007-1866, (212) 637-3177.

Dated: November 13, 2006.
William McCabe,
Acting Director, Emergency and Remedial Response Division, U.S. Environmental Protection Agency, Region II.

[FR Doc. 06-9532 Filed 12-5-06; 8:45 am]

BILLING CODE 6560-50-M